DEPARTMENT OF THE INTERIOR

National Park Service

National Register of Historic Places; Notification of Pending Nominations and Related Actions

Nominations for the following properties being considered for listing or related actions in the National Register were received by the National Park Service before February 1, 2009.Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by March 4, 2009.

J. Paul Loether,
Chief,National Register of Historic Places/National Historic Landmarks Program.

ALABAMA

Jefferson County

Tarrant City Downtown Historic District,Parts of E. Lake Blvd., Ford Ave., Jackson Blvd., Pinson St., Wharton Ave.,Tarrant, 09000105

IOWA

Dallas County

Adel Public Square Historic District,About four blocks in downtown Adel centered on the Public Square,Adel, 09000106

Polk County

Boyt Company Building,210 Court Ave.,Des Moines, 09000108

Sioux County

Hawarden City Hall, Fire Station and Auditorium,715 Central Ave.,Hawarden, 09000107

MISSISSIPPI

Coahoma County

Woolworth Building,207 Yazoo Ave.,Clarksdale, 09000110

Jefferson County

Hays House,18800 Hwy 61 S.,Lorman, 09000111

Lafayette County

South Lamar Historic District, S. Lamar Blvd. and University Ave.,Oxford, 09000112

Montgomery County

Winona Community House,113 Sterling St.,Winona, 09000113

TENNESSEE

Davidson County

Dyer, Arthur J., Observatory,1000 Oman Dr.,Brentwood, 09000114

Knox County

Church Street Methodist Church,(Knoxville and Knox County MPS)913 Henley St.,Knoxville, 09000115

Montgomery County

RiverView Mounds Archeological Site (40MT44),Address Restricted,Clarksville, 09000116

Roane County

Oliver Springs Motor Company,505 Winter Gap Ave.,Oliver Springs, 09000117

Shelby County

Forrest Park Historic District, S. Manassas St. and Union Ave.,Memphis, 09000118

Sullivan County

McFarland, William and Maggie, House,324 6th St.,Bristol, 09000119

VIRGINIA

Fauquier County

Hopefield,6763 Airlie Rd.,Warrenton, 09000120

Giles County

Pyne, Q.M., Store,168 Village St.,Eggleston, 09000121

Staunton Independent city

Lee, Robert E., High School,274 Churchville Ave.,Staunton, 09000122

Wise County

Flat Gap High School, Rt. 671,Pound, 09000123

WISCONSIN

Oneida County

West Side School,718 W. Phillip St.,Rhinelander, 09000124

Request for REMOVAL has been made for the following resources:

TENNESSEE

Bedford County

Bivvins House, Off US 41,Shelbyville, 79002413

Blount County

Alcoa South Plant Office,Hall Rd.,Alcoa, 89001070

Giles County

Batte—Brown—Blackburn House,318 W. Madison St.,Pulaski, 96000659

Hickman County

Fairview School,113 E. Hackberry St.,Centerville, 83004252

Montgomery County

Minglewood Farm,1650 Hopkinsville Hwy.,Clarksville, 87001856

[FR Doc. E9-3244 Filed 2-13-09; 8:45 am]

BILLING CODE 4310-70-P